ENVIRONMENTAL PROTECTION AGENCY

40 CFR Part 52

[PA-4146a; FRL-7040-6]

Approval and Promulgation of Air Quality Implementation Plans; Pennsylvania; NOX RACT Determination for Koppel Steel Corporation in the Pittsburgh-Beaver Valley Area

AGENCY: Environmental Protection Agency (EPA).

ACTION: Direct final rule.

SUMMARY: EPA is taking direct final action to approve a revision to the Commonwealth of Pennsylvania's State Implementation Plan (SIP). The revision was submitted by the Pennsylvania Department of Environmental Protection (PADEP) to establish and require reasonably available control technology (RACT) for the Koppel Steel Corporation's Ambridge Plant, a major source of nitrogen oxides (NOX) located in the Pittsburgh-Beaver Valley ozone nonattainment area (the Pittsburgh area). EPA is approving this revision to establish RACT requirements in the SIP in accordance with the Clean Air Act (CAA).

DATES: This rule is effective on October 9, 2001 without further notice, unless EPA receives adverse written comment by September 24, 2001. If EPA receives such comments, it will publish a timely withdrawal of the direct final rule in the Federal Register and inform the public that the rule will not take effect.

ADDRESSES: Written comments should be mailed to David L. Arnold, Chief, Air Quality Planning & Information Services Branch, Air Protection Division, Mail code 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105.

FOR FURTHER INFORMATION CONTACT: Michael Ioff at (215) 814-2166, the EPA Region III address above or by e-mail at ioff.mike@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major volatile organic compounds (VOC) and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992. The Pennsylvania SIP has approved RACT regulations and requirements for all sources and source categories covered by the CTG's.

On February 4, 1994, the Pennsylvania Department of Environmental Protection (PADEP) submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by-case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrates that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

II. Summary of the SIP Revision

On August 8, 2001, PADEP submitted revisions to the Pennsylvania SIP which establish and impose case-by-case RACT for several sources of VOC and/or NOX. This rulemaking pertains to the Commonwealth's submittal of operating permit (OP) 04-000-227 which imposes NOX RACT requirements for the Koppel Steel Corporation's Ambridge Plant, a major source of NOX located in the Pittsburgh area. Remaining sources are the subject of separate rulemakings.

The Koppel Steel Corporation's Ambridge Plant is a producer of carbon and alloy tubular products located in Harmony Township, Beaver County, Pennsylvania. The Koppel's Ambridge facility receives steel billets and tube rounds from another Koppel facility located in Koppel, Pennsylvania. The Ambridge Plant is a steel processing facility which treats and shapes these billets and rounds into tubular products. The facility consists of eight installations/processes with potential NOX emissions of 153.1 tons per year. It is, therefore, a major source of NOX and subject to RACT. As the facility's potential VOC emissions are less than 50 tons per year, the facility is not a major source of VOC. The PADEP established NOX RACT requirements in OP 04-000-227 for the eight installations/processes subject to Pennsylvania's RACT regulation.

A. Description of the NOX Emitting Units/Processes at the Ambridge Plant

The eight installations/processes at Koppel Steel's Ambridge facility fall into two source types, heat treating furnaces and space heating units.

1. Heat Treating Furnaces

The heat treating furnaces include the Quench Furnace, Temper Furnace, Reheat Furnace, 5″ and 7.5″ upsetter furnaces, off-mill normalize furnace, and rotary hearth reheat furnace. The heating/reheat furnaces are used for heat-treating of steel to bring it to a uniform temperature suitable for hot working. Upsetter furnaces are small units used to heat treat the ends of the tubular products to the correct temperature prior to their upsetting. The normalizing furnace is used to refine the steel grain structure, to relieve stresses induced by hot or cold working, and to improve the mechanical properties of the steel. The quench and temper furnaces are used in the product's final finishing process, in order to achieve its proper physical properties, by cooling it under closely controlled thermal conditions. Heat treatment of the carbon and alloy steels is conducted at a slow rate and relatively low temperatures to minimize thermal stresses and to avoid distortion and cracking. All the heat treating furnaces at the Koppel's Ambridge facility are natural gas fired combustion units.

2. Miscellaneous Plant-wide Space Heating Units

Several natural gas fired space heaters are located throughout the plant. These units do not contribute significantly to the total plant-wide NOX emissions. The gas space heaters are henceforth discussed collectively.

B. Description of the RACT Determination

Of the plant's eight major NOX emitting installations/processes, four (the reheat furnace, 5″ and 7.5″ upsetter furnaces, and the gas space heaters) are units with rated heat input of less than 20 MMBTU/hr each. Pennsylvania has determined that these sources are subject to SIP-approved presumptive RACT requirements set forth in 25 Pa. Code Section 129.93(c)(1) which requires that the installation, maintenance, and operation of the source be done in accordance with manufacturer's specifications. Three of the four remaining sources (the quench, temper, and off-mill normalized furnaces) are natural gas fired combustion units with a rated heat inputs between 20 MMBTU/hr and 50 MMBTU/hr each. Pennsylvania has determined that these three sources are subject to SIP-approved presumptive RACT requirements set forth in 25 Pa. Code Section 129.93(b)(2) which require that an annual adjustment or tune-up of the combustion process be performed. Pennsylvania also requires that an annual test program be conducted utilizing a portable analyzer for nitrogen oxides, carbon monoxide, and VOC for the quench, temper, reheat, and off-mill normalize furnaces. In addition, in its OP 04-000-227 Pennsylvania has imposed a requirement that all sources, listed above, shall be operated and maintained in accordance with good air pollution control practices. The remaining NOX emitting source is the rotary hearth reheat furnace with a rated heat input of 182 MMBTU/hr. The following NOX control options were evaluated in a case-by-case RACT analysis: Selective Catalytic Reduction (SCR), Low NOX Burners (LNB), Flue Gas Recirculation (FGR), Selective Non-Catalytic Reduction (SNCR), and Low Excess Air (LEA). Pennsylvania has determined that, as RACT, Koppel shall employ LEA at a percentage of approximately 10% to minimize NOX formation. Pennsylvania also requires that an annual test program be conducted utilizing a portable analyzer for nitrogen oxides, carbon monoxide, and VOC for this source. OP 04-000-227 also requires that a PADEP-approved stack test for oxides of nitrogen, carbon monoxide, and VOC be performed, and that the furnace shall be operated and maintained in accordance with good air pollution control practices.

III. EPA's Evaluation

EPA is approving Pennsylvania's SIP submittal to impose RACT for Koppel Steel Corporation's Ambridge Plant because OP 04-000-227 establishes and imposes RACT requirements in accordance with the criteria set forth in the SIP-approved RACT regulations and also imposes record-keeping, and testing requirements sufficient to determine compliance with the applicable RACT determinations.

IV. Final Action

EPA is approving OP 04-000-227 issued by the PADEP to impose RACT for Koppel Steel Corporation's Ambridge Plant as a revision to the Pennsylvania SIP. EPA is publishing this rule without prior proposal because the Agency views this as a noncontroversial amendment and anticipates no adverse comment. However, in the “Proposed Rules” section of today's Federal Register, EPA is publishing a separate document that will serve as the proposal to approve the SIP revision if adverse comments are filed. This rule will be effective on October 9, 2001 without further notice unless EPA receives adverse comment by September 24, 2001. If EPA receives adverse comment, EPA will publish a timely withdrawal in the Federal Register informing the public that the rule will not take effect. EPA will address all public comments in a subsequent final rule based on the proposed rule. EPA will not institute a second comment period on this action. Any parties interested in commenting must do so at this time.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings'' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for one named source.

C. Petitions for Judicial Review

Under section 307(b)(1) of the Clean Air Act, petitions for judicial review of this action must be filed in the United States Court of Appeals for the appropriate circuit by October 23, 2001. Filing a petition for reconsideration by the Administrator of this final rule does not affect the finality of this rule for the purposes of judicial review nor does it extend the time within which a petition for judicial review may be filed, and shall not postpone the effectiveness of such rule or action. This action approving the Commonwealth's source-specific RACT requirements to control NOX emissions from Koppel Steel Corporation's Ambridge Plant may not be challenged later in proceedings to enforce its requirements. (See section 307(b)(2).)

List of Subjects in 40 CFR Part 52

Environmental protection, Air pollution control, Incorporation by reference, Nitrogen oxides, Ozone, Reporting and recordkeeping requirements.

Dated: August 15, 2001.
Thomas C. Voltaggio,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(180) to read as follows:

§ 52.2020 Identification of plan.

* * * * *

(c) * * *

(180) Revision pertaining to NOX RACT for Koppel Steel Corporation's Ambridge Plant located in Harmony Township, Beaver County, Pennsylvania, submitted by the Pennsylvania Department of Environmental Protection on August 8, 2001.

(i) Incorporation by reference.

(A) Letter submitted on August 8, 2001 by the Pennsylvania Department of Environmental Protection transmitting several source-specific NOX and/or VOC RACT determinations.

(B) Operating Permit 04-000-227, effective October 12, 2000, issued to Koppel Steel Corporation, Ambridge Plant.

(ii) Additional Materials—Other materials submitted by the Commonwealth of Pennsylvania in support of and pertaining to the RACT determination for the source listed in paragraph (c)(180)(i)(B) of this section.

[FR Doc. 01-21429 Filed 8-23-01; 8:45 am]

BILLING CODE 6560-50-P